ENVIRONMENTAL PROTECTION AGENCY

[FRL-10005-01-R6]

Clean Air Act Operating Permit Program; Petition for Objection to State Operating Permit for Valero Refining-Texas, L.P., Harris County, Texas

AGENCY: Environmental Protection Agency (EPA).

ACTION: Notice of final Order on Petition for objection to Clean Air Act Title V operating permit.

SUMMARY: The Environmental Protection Agency (EPA) Administrator signed an Order dated June 30, 2022, granting in part and denying in part a Petition dated June 29, 2021, from Texas Environmental Justice Advocacy Services, Sierra Club, Caring for Pasadena Communities, Environmental Integrity Project, and Earthjustice. The Petition requested that the EPA object to a Clean Air Act (CAA) title V operating permit issued by the Texas Commission on Environmental Quality (TCEQ) to the Valero Houston Refinery located in Harris County, Texas.

ADDRESSES: The EPA requests that you contact the individual listed in the FOR FURTHER INFORMATION CONTACT section to view copies of the final Order, the Petition, and other supporting information. Out of an abundance of caution for members of the public and our staff, the EPA Region 6 office may be closed to the public to reduce the risk of transmitting COVID-19. Please call or email the contact listed below if you need alternative access to the final Order and Petition, which are available electronically at: https://www.epa.gov/title-v-operating-permits/title-v-petition-database.

FOR FURTHER INFORMATION CONTACT: Aimee Wilson, EPA Region 6 Office, Air Permits Section, (214) 665-7596, wilson.aimee@epa.gov.

SUPPLEMENTARY INFORMATION: The CAA affords the EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issue arose after this period.

The EPA received the Petition from Texas Environmental Justice Advocacy Services, Sierra Club, Caring for Pasadena Communities, Environmental Integrity Project, and Earthjustice dated June 29, 2021, requesting that the EPA object to the issuance of operating permit no. O1381, issued by TCEQ to the Valero Houston Refinery in Harris County, Texas. The Petition claims TCEQ failed to provide notice to the public through a mailing list, the proposed permit fails to incorporate, describe, and assure compliance with Permits by Rule, the proposed permit fails to assure compliance with NSPS and NESHAP requirements, the proposed permit's monitoring, reporting, and emission calculation requirements cannot ensure compliance for key units and limits at the refinery, TCEQ failed to provide a reasoned explanation for why the proposed permit ensures compliance with the limits at issue for the FCCU, Flares, DAF Unit, Boilers, Fugitive Emissions, Atmospheric Tower Heater, Tanks, and Cooling Towers, the proposed permit includes unlawful provisions relaxing federally enforceable emission limits during startup, shutdown, and maintenance periods, and the proposed permit unlawfully incorporates language giving TCEQ discretion regarding whether CEMS data may be used to determine compliance.

On June 30, 2022, the EPA Administrator issued an Order granting in part and denying in part the Petition. The Order explains the basis for the EPA's decision.

Dated: July 14, 2022.
David Garcia,
Director, Air and Radiation Division, Region 6.

[FR Doc. 2022-15428 Filed 7-19-22; 8:45 am]

BILLING CODE 6560-50-P